DEPARTMENT OF TRANSPORTATION

Federal Aviation Administration

14 CFR Part 97

[Docket No. 30387 ; Amdt. No. 3075 ]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective September 22, 2003. The compliance date for each SIAP is specified in the amendatory provisions.

The incorporation by reference of certain publications listed in the regulations is approved by the Director of the Federal Register as of September 22, 2003.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The Office of Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 12, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective October 2, 2003

South St. Paul, MN, South St. Paul Muni-Richard E. Fleming Field, LOC RWY 34, Orig

* * * Effective October 30, 2003

Clinton, AR, Holley Mountain Airpark, RNAV (GPS) RWY 23, Amdt 1

Clinton, AR, Holley Mountain Airpark, RNAV (GPS) RWY 5, Amdt 1

Bakersfield, CA, Meadows Field, GPS RWY 30R, Orig-B, CANCELLED

Redding, CA, Redding Muni, LOC/DME BC RWY 16, Amdt 6B

Douglas, GA, Douglas Muni, ILS OR LOC RWY 4, Orig

Douglas, GA, Douglas Muni, LOC RWY 4, Amdt 2C, CANCELLED

Kingman, KS, Kingman Airport-Clyde Cessna Field, RNAV (GPS) RWY 18, Orig

Kingman, KS, Kingman Airport-Clyde Cessna Field, RNAV (GPS) RWY 36, Orig

Kingman, KS, Kingman Airport-Clyde Cessna Field, VOR/DME RWY 18, Amdt 2

Kingman, KS, Kingman Airport-Clyde Cessna Field, GPS RWY 18, Orig-B, CANCELLED

Lawrence, KS, Lawrence Muni, RNAV (GPS) RWY 15, Orig

Lawrence, KS, Lawrence Muni, RNAV (GPS) RWY 33, Orig

Lawrence, KS, Lawrence Muni, VOR/DME-A, Amdt 10

Lawrence, KS, Lawrence Muni, VOR/DME RNAV RWY 33, Amdt 4A, CANCELLED

Eunice, LA, Eunice, VOR/DME-A, Amdt 3

Eunice, LA, Eunice, RNAV (GPS) RWY 16, Orig

Eunice, LA, Eunice, RNAV (GPS) RWY 34, Orig

Eunice, LA, Eunice, GPS RWY 34, Orig-A, CANCELLED

Jennings, LA, Jennings, RNAV (GPS) RWY 8, Orig

Jennings, LA, Jennings, VOR/DME RWY 8, Amdt 1

Jennings, LA, Jennings, GPS RWY 8, Orig-A, CANCELLED

Lake Providence, LA, Byerley, RNAV (GPS) RWY 17, Orig

Lake Providence, LA, Byerley, GPS RWY 17, Orig, CANCELLED

Detroit, MI, Berz-Macomb, NDB OR GPS RWY 22, Orig, CANCELLED

Detroit, MI, Berz-Macomb, VOR OR GPS-A, Orig, CANCELLED

Grants, NM, Grants-Milan Municipal, RNAV (GPS) RWY 13, Orig

Ponca City, OK, Ponca City Rgnl, NDB RWY 17, Amdt 5

Ponca City, OK, Ponca City Rgnl, NDB RWY 35, Amdt 4

Ponca City, OK, Ponca City Rgnl, VOR-A, Amdt 10

Seminole, OK, Seminole Muni, RNAV (GPS) RWY 16, Orig

Seminole, OK, Seminole Muni, NDB RWY 16, Amdt 3

Seminole, OK, Seminole Muni, GPS RWY 16, Orig, CANCELLED

Shawnee, OK, Shawnee Rgnl, ILS OR LOC RWY 17, Amdt 1

Shawnee, OK, Shawnee Rgnl, RNAV (GPS) RWY 17, Orig

Shawnee, OK, Shawnee Rgnl, GPS RWY 17, Orig-A, CANCELLED

Tahlequah, OK, Tahlequah Muni, RNAV (GPS) RWY 17, Orig

Tahlequah, OK, Tahlequah Muni, RNAV (GPS) RWY 35, Orig

Tahlequah, OK, Tahlequah Muni, GPS RWY 17, Orig, CANCELLED

Tahlequah, OK, Tahlequah Muni, GPS RWY 35, Orig, CANCELLED

Chambersburg, PA, Chambersburg Muni, RNAV (GPS) RWY 6, Orig

Chambersburg, PA, Chambersburg Muni, RNAV (GPS) RWY 24, Orig

Chambersburg, PA, Chambersburg Muni, GPS RWY 24, Amdt 1, CANCELLED

Philadelphia, PA, Philadelphia Intl, ILS RWY 9L, Amdt 4

Philadelphia, PA, Philadelphia Intl, ILS RWY 9R, Amdt 9

Philadelphia, PA, Philadelphia Intl, ILS RWY 17, Amdt 6

Philadelphia, PA, Philadelphia Intl, ILS RWY 26, Amdt 3

Philadelphia, PA, Philadelphia Intl, ILS RWY 27R, Amdt 10

Philadelphia, PA, Philadelphia Intl, ILS PRM RWY 26, Amdt 2

Philadelphia, PA, Philadelphia Intl, ILS PRM RWY 27L, Amdt 2

Philadelphia, PA, Philadelphia Intl, CONVERGING ILS RWY 9R, Amdt 4

Philadelphia, PA, Philadelphia Intl, CONVERGING ILS RWY 17, Amdt 3

Philadelphia, PA, Philadelphia Intl, RNAV (GPS) RWY 26, Orig

Philadelphia, PA, Philadelphia Intl, RNAV (GPS) RWY 27L, Orig

Philadelphia, PA, Philadelphia Intl, RNAV (GPS) RWY 27R, Orig

Philadelphia, PA, Philadelphia Intl, RNAV (GPS) RWY 35, Orig

Philadelphia, PA, Philadelphia Intl, RNAV (GPS) Y RWY 9L, Orig

Philadelphia, PA, Philadelphia Intl, RNAV (GPS) Z RWY 9L, Orig

Philadelphia, PA, Philadelphia Intl, RNAV (GPS) Y RWY 9R, Orig

Philadelphia, PA, Philadelphia Intl, RNAV (GPS) Z RWY 9R, Orig

Philadelphia, PA, Philadelphia Intl, RNAV (GPS) Y RWY 17, Orig

Philadelphia, PA, Philadelphia Intl, RNAV (GPS) Z RWY 17, Orig

Philadelphia, PA, Philadelphia Intl, VOR/DME-A, Amdt 2

Philadelphia, PA, Philadelphia Intl, GPS RWY 17, Orig-A, CANCELLED

Philadelphia, PA, Philadelphia Intl, GPS RWY 27L, Orig-B, CANCELLED

Philadelphia, PA, Philadelphia Intl, GPS RWY 35, Orig-A, CANCELLED

Houston, TX, George Bush Intercontinental Arpt/Houston, ILS OR LOC RWY 8L, Orig, ILS RWY 8L (CAT II, III), Orig

Houston, TX, George Bush Intercontinental Arpt/Houston, ILS OR LOC RWY 8R, Amdt 21

Houston, TX, George Bush Intercontinental Arpt/Houston, ILS OR LOC RWY 9, Amdt 6

Houston, TX, George Bush Intercontinental Arpt/Houston, ILS OR LOC RWY 26L, Amdt 17, ILS RWY 26L (CAT II, III), Amdt 17

Houston, TX, George Bush Intercontinental Arpt/Houston, ILS OR LOC RWY 26R, Orig, ILS RWY 26R (CAT II, III), Orig

Houston, TX, George Bush Intercontinental Arpt/Houston, ILS OR LOC RWY 27, Amdt 5/ILS RWY 27 (CAT II, III), Amdt 5

Houston, TX, George Bush Intercontinental Arpt/Houston, RNAV (GPS) Z RWY 8L, Orig

Houston, TX, George Bush Intercontinental Arpt/Houston, RNAV (GPS) Z RWY 8R, Orig

Houston, TX, George Bush Intercontinental Arpt/Houston, RNAV (GPS) Z RWY 9, Amdt 1

Houston, TX, George Bush Intercontinental Arpt/Houston, RNAV (GPS) Z RWY 26L, Orig

Houston, TX, George Bush Intercontinental Arpt/Houston, RNAV (GPS) Z RWY 26R, Orig

Houston, TX, George Bush Intercontinental Arpt/Houston, RNAV (GPS) Z RWY 27, Orig

Houston, TX, George Bush Intercontinental Arpt/Houston, RNAV (GPS) RWY 8, Orig-C, CANCELLED

Houston, TX, George Bush Intercontinental Arpt/Houston, RNAV (GPS) Y RWY 9, Orig-B, CANCELLED

Houston, TX, George Bush Intercontinental Arpt/Houston, RNAV (GPS) RWY 26, Orig-C, CANCELLED

Houston, TX, George Bush Intercontinental Arpt/Houston, RNAV (GPS) RWY 27, Orig-C,

CANCELLED

Manassas, VA, Manassas Regional/Harry P. Davis Field, RNAV (GPS) RWY 16R, Orig

Manassas, VA, Manassas Regional/Harry P. Davis Field, RNAV (GPS) RWY 34R, Orig

Manassas, VA, Manassas Regional/Harry P. Davis Field, GPS RWY 34R, Orig-A, CANCELLED

Manassas, VA, Manassas Regional/Harry P. Davis Field, VOR/DME RNAV OR GPS RWY 16R, AMDT 7C, CANCELLED

[FR Doc. 03-23969 Filed 9-18-03; 12:01 pm]

BILLING CODE 4910-13-P